DEPARTMENT OF AGRICULTURE

Foreign Agricultural Service

Notice of Request for Approval of a New Information Collection

AGENCY: Foreign Agricultural Service, USDA.

ACTION: Notice and request for comments.

SUMMARY: In accordance with the Paperwork Reduction Act (PRA) of 1995 (44 U.S.C. Chapter 35), this notice announces the intention of the Foreign Agricultural Service to request approval for a new information collection for the Agriculture Wool Apparel Manufacturers Trust Fund.

DATES: Comments on this notice must be received by February 23, 2015 to be assured of consideration.

ADDRESSES: FAS invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Benjamin Chan, U.S. Department of Agriculture, Foreign Agricultural Service, 1400 Independence Avenue SW., Mailstop 1020, Washington, DC 20250.

• Hand- or courier-delivered submittals: Benjamin Chan, U.S. Department of Agriculture, Foreign Agricultural Service, 1400 Independence Avenue SW., Mailstop 1020, Washington, DC 20250.

Instructions: All items submitted by mail or electronic mail must include the Agency name. Comments received in response to this docket will be made available for public inspection and posted without change, including any personal information, to http://www.regulations.gov.

FOR FURTHER INFORMATION CONTACT: Contact Benjamin Chan, Import Programs and Export Reporting Division, Foreign Agricultural Service, U.S. Department of Agriculture, 1400 Independence Ave. SW., Mail Stop 1021, Washington, DC 20250, 202-720-8877. Email address: iperd@fas.usda.gov.

SUPPLEMENTARY INFORMATION: Title: Agriculture Wool Apparel Manufacturers Trust Fund.

OMB Control Number: 0551-New.

Expiration Date of Approval: Three years from approval date.

Type of Request: New information collection.

Abstract: This information collection is required for affidavits submitted to FAS for claims against the Agriculture Wool Apparel Manufacturers Trust Fund. Claimants of the Agriculture Wool Apparel Manufacturers Trust Fund will be required to submit electronically a notarized affidavit and information pertaining to the production of worsted wool suits, suit-type jackets, or trousers for boys and men; or the weaving of wool yarn, wool fiber, or wool top to request a distribution from the Agriculture Wool Apparel Manufacturers Trust Fund electronically to FAS and will be available on the FAS Web site under the Agriculture Wool Apparel Manufacturers Trust Fund section.

Estimate of Burden: Public reporting burden for this collection of information is estimated to average 3 hour per response for affidavits related to the Agriculture Wool Apparel Manufacturers Trust Fund.

Type of Respondents: Under the Agriculture Wool Apparel Manufacturers Trust Fund there are three groups of potential respondents, as authorized by Section 12315 of Act (Pub. L. 113-79): (1) Persons in the United States that produce worsted wool suits, suit-type jackets, or trousers for men and boys in the year prior to the application using worsted wool fabric of the kind described in headings 9902.51.11, 9902.51.15, or who weave worsted wool fabrics suitable for use in making men and boys suits under heading 9902.51.16 of the Harmonized Tariff Schedule of the United States; (2) Persons in the United States that process wool yarn, wool fiber, or wool top of the kind described in headings 9902.51.13 or 9902.51.14 of the Harmonized Tariff Schedule of the United States in the year prior to the application; (3) Persons in the United States who weave worsted wool fabrics of the kind described in headings 9902.51.11 and or 9902.51.15 of the Harmonized Tariff Schedule of the United States in the year prior to the application and must have also woven worsted wool fabrics in the United States of the kind described above in the years 1999, 2000, and 2001.

Estimated Number of Respondents: 55.

Estimated Number of Responses: 55.

Estimated Number of Responses per Respondent: 1.

Estimated Total Annual Burden on Respondents: 164 hours.

Copies of this information collection can be obtained from Connie Ehrhart, the Agency Information Collection Coordinator, at (202) 690-1578 or email at Connie.Ehrhart@fas.usda.gov.

Request for Comments: We are requesting comments on all aspects of this information collection to help us to: (1) Evaluate whether the collection of information is necessary for the proper performance of FAS's functions, including whether the information will have practical utility; (2) Evaluate the accuracy of FAS's estimate of burden including the validity of the methodology and assumptions used; (3) Enhance the quality, utility and clarity of the information to be collected; and (4) Minimize the burden of the collection of information on those who are to respond, including through the use of appropriate automated, electronic, mechanical, or other technological collection techniques or other forms of information technology. Comments may be sent to Benjamin Chan, Import Programs and Export Reporting Division, Foreign Agricultural Service, U.S. Department of Agriculture, 1400 Independence Ave. SW., Mail Stop 1021, Washington, DC 20250. Electronic mail submissions should be addressed to: iperd@fas.usda.gov.

All comments received in response to this notice, including names and addresses when provided, will be a matter of public record. Comments will be summarized and included in the submission for Office of Management and Budget approval.

E-Government Act Compliance

FAS is committed to complying with the E-Government Act, to promote the use of the Internet and other information technologies to provide increased opportunities for citizen access to Government information and services, and for other purposes.

Persons with disabilities who require an alternative means for communication of information (e.g., Braille, large print, audiotape, etc.) should contact USDA's Target Center at (202) 720-2600 (voice and TDD).

Signed at Washington, DC, on December 9, 2014.
Philip C. Karsting,
Administrator, Foreign Agricultural Service.

[FR Doc. 2014-30183 Filed 12-23-14; 8:45 am]

BILLING CODE 3410-10-P